AGENCY FOR INTERNATIONAL DEVELOPMENT

30-Day Notice of Public Information Collections

AGENCY: U.S. Agency for International Development.

ACTION: Notice of public information collections.

SUMMARY: The U.S. Agency for International Development (USAID) seeks Office of Management and Budget (OMB) approval to continue the information collections described below. In accordance with the Paperwork Reduction Act for 1995, USAID requests public comment on these collections from all interested individuals and organizations.

DATES: Submit comments on or before October 25, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lyudmila Bond, at (202) 916-2622 or via email at policymailbox@usaid.gov.

SUPPLEMENTARY INFORMATION: This proposed information collection was published in the Federal Register on June 24, 2021 at 86 FR 33206, allowing for a 60-day public comment period. No comments were received, however USAID has adjusted the burden calculations to account for an error in the GS 13 step 5 rate used in the calculation. The purpose of this notice is to allow an additional 30 days for public comment. Comments are requested concerning: (a) Whether the proposed collection of information is necessary for the proper performance of functions of the agency, including the practical utility of the information; (b) the accuracy of USAID's estimate of the burden of the proposed collection of information; (c) ways to enhance the quality, utility, and clarity of the information collected; and (d) ways to minimize the burden of the collection of information on respondents.

OMB No: 0412-0579.

Form: AID 309-2.

Title: Offeror Information for Personal Services Contracts With Individuals.

Type of Review: Reinstatement, without change, of a previously approved collection for which approval has expired.

Purpose: USAID must collect information for reporting purposes to Congress and the Office of Acquisition and Assistance Contract Administration. This form will be used to collect information from offerors applying for PSC opportunities and to determine the most qualified offeror for award of a PSC contract.

Annual Reporting Burden:

U.S. Respondents: 12,600.

Total Annual U.S. Responses: 12,600.

Total Annual Hours Requested: 12,600 hours.

The burden estimate is based on the average number of PSC awards made over the past three years, which is 600. The average number of respondents to each solicitation is 21. Therefore, the total annual number of U.S. responses averages 600 × 21 = 12,600. The amount of time estimated to complete the form is one hour, for a total of 12,600 hours.

The cost estimate is based on the total annual hours requested. Most respondents are individuals from various sources submitting offers for positions that have an average salary equivalent to a GS13 step 5, which currently equals $56.31/hr. Therefore, the total annual cost to respondents averages 12,600 × $56.31 = $709,506.

Mark A. Walther,
Senior Procurement Executive.

[FR Doc. 2021-20502 Filed 9-22-21; 8:45 am]

BILLING CODE P